FEDERAL ELECTION COMMISSION

Sunshine Act Meeting

AGENCY: Federal Election Commission.

DATE AND TIME: Tuesday, January 24, 2017 at 10:00 a.m. and its continuation at the conclusion of the open meeting on January 25, 2017.

PLACE: 999 E Street NW., Washington, DC.

STATUS: This meeting was closed to the public.

FEDERAL REGISTER NOTICE OF PREVIOUS ANNOUNCEMENT: 82 FR 6550.

ITEMS ALSO DISCUSSED: Matters relating to internal personnel decisions, or internal rules and practices. Information the premature disclosure of which would be likely to have a considerable adverse effect on the implementation of a proposed Commission action.

* * * * *

PERSON TO CONTACT FOR INFORMATION: Judith Ingram, Press Officer, Telephone: (202) 694-1220.

Dayna C. Brown,
Acting Secretary and Clerk of the Commission.

[FR Doc. 2017-02008 Filed 1-26-17; 11:15 am]

BILLING CODE 6715-01-P